DEPARTMENT OF TRANSPORTATION

Federal Motor Carrier Safety Administration

[Docket No. FMCSA-2012-0087]

Unified Carrier Registration Plan Board of Directors; Request for Nominations

AGENCY: Federal Motor Carrier Safety Administration (FMCSA), DOT.

ACTION: Notice: Request for Nominations from the Motor Carrier Industry to the Board of Directors.

SUMMARY: FMCSA solicits nominations and applications for appointment to the Board of Directors of the Unified Carrier Registration Plan (UCR Plan) of interested persons to serve as representatives of the motor carrier industry. The Agency will appoint five members from the motor carrier industry. The UCR Plan is responsible for the administration of the UCR Agreement. The UCR Agreement governs the registration and the collection and distribution of fees paid by for-hire and private motor carriers, brokers, freight forwarders, and leasing companies. The UCR Plan and Agreement replaced the Single State Registration System (SSRS), which was repealed as of January 1, 2008.

DATES: Nominations or expressions of interest for appointment to the Board of Directors must be received on or before May 7, 2012.

ADDRESSES: You may submit comments to this notice, identified by docket number FMCSA-2012-0087, by any of the following methods—Internet, facsimile, regular mail, or hand-delivery.

Federal eRulemaking Portal: Federal Docket Management System (FDMS) Web site at http://www.regulations.gov. The FDMS is the preferred method for submitting comments, and we urge you to use it. In the “Comment” or “Submission” section, type Docket ID Number “FMCSA-2012-0087”, select “Go”, and then click on “Send a Comment or Submission.” You will receive a tracking number when you submit a comment.

Fax: 1-202-493-2251.

Mail, Courier, or Hand-Deliver: U.S. Department of Transportation, Docket Operations (M-30), West Building Ground Floor, Room W12-140, 1200 New Jersey Avenue SE., Washington, DC 20590. Office hours are between 9 a.m. and 5 p.m., ET, Monday through Friday, except Federal holidays.

Docket: Comments and material received from the public, as well as background information and documents mentioned in this preamble, are part of docket FMCSA-2012-0087, and are available for inspection and copying on the Internet at http://www.regulations.gov. You may also view and copy documents at the U.S. Department of Transportation's Docket Operations Unit, West Building Ground Floor, Room W12-140, 1200 New Jersey Avenue SE., Washington, DC.

Privacy Act: Anyone may search the electronic form of all comments received into any of our dockets by the name of the individual submitting the comment (or of the person signing the comment, if submitted on behalf of an association, business, labor union, etc.). You may review DOT's Privacy Act Statement for the Federal Docket Management System published in the Federal Register on January 17, 2008 (73 FR 3316), or you may visit http://edocket.access.gpo.gov/2008/pdf/E8-785.pdf.

FOR FURTHER INFORMATION CONTACT: Mr. Jose M. Rodriguez, Office of Research and Information Technology, (202) 366-3517, FMCSA, Department of Transportation, 1200 New Jersey Ave. SE., Washington, DC 20590 or by email at: jose.rodriguez@dot.gov. If you have questions on viewing the docket, call Renee V. Wright, Program Manager, Docket Operations, telephone 202-366-9826.

Background

Section 4305(b) of the Safe, Accountable, Flexible, Efficient Transportation Equity Act: A Legacy for Users (SAFETEA-LU) [Pub. L. 109-59, 119 Stat. 1144, August 10, 2005] enacted 49 U.S.C. 14504a entitled “Unified carrier registration system plan and agreement.” Under the UCR Agreement, motor carriers, motor private carriers, brokers, freight forwarders, and leasing companies that are involved in interstate transportation register and pay certain fees. The UCR Plan's Board of Directors must issue rules and regulations to govern the UCR Agreement. Section 14504a(a)(9) defines the Unified Carrier Registration Plan as the organization of State, Federal, and industry representatives responsible for developing, implementing, and administering the UCR Agreement. Section 14504a(d)(1)(B) directed the Secretary to establish a Unified Carrier Registration Plan Board of Directors made up of 15 members from FMCSA, State governments, and the motor carrier industry. The Board also must recommend initial annual fees to be assessed against carriers, leasing companies, brokers, and freight forwarders under the UCRA, as well as any annual adjustments to those fees. Section 14504a(d)(1)(B) provides that the UCR Plan's Board of Directors must consist of directors appointed by the Secretary as follows:

Federal Motor Carrier Safety Administration: One director must be selected from each of the FMCSA 4 service areas (as defined by FMCSA on January 1, 2005) from among the chief administrative officers of the State agencies responsible for overseeing the administration of the UCR Agreement.

State Agencies: The five directors selected to represent State agencies must be from among the professional staffs of State agencies responsible for overseeing the administration of the UCR Agreement. Nominees for these five directorships must be submitted to the Secretary by the national association of professional employees of the State agencies responsible for overseeing the administration of the UCR Agreement in their respective States.

Motor Carrier Industry: Five directors must be from the motor carrier industry. At least one of the five motor carrier industry directors must be from “a national trade association representing the general motor carrier of property industry” and one of them must be from “a motor carrier that falls within the smallest fleet fee bracket.”

U.S. Department of Transportation (the Department): One individual, either the FMCSA Deputy Administrator or such other Presidential appointee from the Department appointed by the Secretary, represents the Department.

The establishment of the Board was announced in the Federal Register on May 12, 2006 (71 FR 27777). In that notice, the Agency recognized the American Trucking Associations, Inc. (ATA) as the national trade association representing the general motor carrier of property industry. ATA is a national affiliation of State trucking organizations representing the national, State and local interests of the 50 affiliated State trucking associations; and the interests of specialized areas of the trucking industry through conferences and councils. The Agency selected the Owner-Operator Independent Drivers Association (OOIDA) as the organization from which to appoint an individual to represent motor carriers comprising the smallest fleet fee bracket. OOIDA is a national trade association representing the interests of small trucking companies and drivers.

Each of the five current directors from the motor carrier industry serves a term of 3 years that will expire on May 31, 2012. These directors may continue to serve until their replacements are appointed; each of them may be reappointed (49 U.S.C. 14504a(d)(1)(D)(iii) and (iv)). Today's publication serves as a notice requesting nominations for and public comment on possible appointment of the five members of the motor carrier industry in accordance with 49 U.S.C. 14504a(d).

Board Member Nominations

FMCSA seeks either nominations of, or expressions of interest from, individuals to serve as members of the board of directors for the UCR Plan from the motor carrier industry. Nominations or expressions of interest should indicate that the person nominated or recommended meets the statutory requirements specified in 49 U.S.C. 14504a(d)(1)(B)(iii). Nominations or expressions of interest must be transmitted by means of the procedures for comments specified earlier in this notice. FMCSA and the Department will make the appointments for the five members from the motor carrier industry for three-year terms, expiring on May 31, 2015. FMCSA and the Department will consider the objectives specified in the statute for the UCR Plan and Agreement when making the appointments.

Issued on: March 29, 2012.
Kelly Leone,
Associate Administrator, Research and Information Technology.

[FR Doc. 2012-8387 Filed 4-5-12; 8:45 am]

BILLING CODE 4910-EX-P